DEPARTMENT OF THE INTERIOR

Fish and Wildlife Service

[FWS-HQ-ES-2016-132; FF09E42000 156 FXES11130900000]

Endangered Species; Issuance of Recovery Permits

AGENCY: Fish and Wildlife Service, Interior.

ACTION: Notice of issuance of recovery permits.

SUMMARY: We, the U.S. Fish and Wildlife Service, have issued the following permits to conduct activities with endangered and threatened species under the authority of the Endangered Species Act (Act), as amended. With some exceptions, the Act prohibits activities involving listed species unless a Federal permit is issued that allows such activity. We provide this list for the convenience of the public as a summary of our permit issuances for the first half of calendar year 2016.

FOR FURTHER INFORMATION CONTACT: See the contact information in the Permits Issued section.

SUPPLEMENTARY INFORMATION: We have issued the following permits to conduct activities with endangered and threatened species in response to recovery permit applications that we received under the authority of section 10(a)(1)(A) of the Endangered Species Act (16 U.S.C. 1531 et seq.). These permits were issued between January 1, 2016, and June 30, 2016. Each permit was issued only after we determined that it was applied for in good faith, that granting the permit would not be to the disadvantage of the listed species, that the proposed activities were for scientific research or would benefit the recovery or the enhancement of survival of the species, and that the terms and conditions of the permits were consistent with the purposes and policy set forth in the Act.

Permits Issued

Region 1 (Pacific Region: Hawaii, Idaho, Oregon (Except for the Klamath Basin), Washington, American Samoa, Commonwealth of the Northern Mariana Islands, Guam, and the Pacific Trust Territories)

The following permits were applied for and issued in Region 1. For more information about any of the following permits, contact the Recovery Permit Coordinator by email at PermitsR1ES@fws.gov or by telephone at 503-231-6131.

Permit No. | Date issued | Applicant name
126985 | 01/25/16 | COLVILLE CONFEDERATED TRIBES.
63598B | 02/03/16 | AMERICAN MUSEUM OF NATURAL HISTORY.
82107B | 02/18/16 | MT. HOOD NATIONAL FOREST.
40123A | 02/18/16 | U.S. ARMY GARRISON—POHAKULOA TRAINING AREA.
702631 | 02/18/16 | U.S. FISH AND WILDLIFE SERVICE, REGION 1.
82106B | 02/29/16 | NOAA FISHERIES—NORTHWEST FISHERIES SCIENCE CENTER.
043875 | 03/03/16 | U.S. GEOLOGICAL SURVEY, COLUMBIA RIVER RESEARCH LABORATORY.
05166B | 03/17/16 | YAKAMA NATION FISHERIES.
49790B | 04/11/16 | U.S. GEOLOGICAL SURVEY.
22353B | 04/14/16 | CENTER FOR NATURAL LANDS MANAGEMENT.
86029B | 04/21/16 | JOINT BASE LEWIS—MCCHORD.
81239B | 04/21/16 | WASHINGTON DEPARTMENT OF NATURAL RESOURCES.
89863B | 04/22/16 | OREGON STATE UNIVERSITY.
27877B | 04/28/16 | HAAN, NATHAN L.
081309 | 04/28/16 | WEYERHAEUSER COMPANY.
89855B | 05/05/16 | U.S. GEOLOGICAL SURVEY, CRUSTAL GEOPHYSICS AND GEOCHEMISTRY SCIENCE CENTER.
844503 | 05/11/16 | BURNS PAIUTE TRIBE.
80996B | 05/11/16 | BUTLER-HIGA, MARGUERITE A.
66384A | 05/25/16 | IDAHO DEPARTMENT OF FISH AND GAME.
63382B | 05/25/16 | NYMAN, STEPHEN.
02348A | 05/25/16 | RAEDEKE ASSOCIATES, INC.
72986A | 05/25/16 | WASHINGTON DEPARTMENT OF NATURAL RESOURCES.
012136 | 05/27/16 | OREGON DEPARTMENT OF ENVIRONMENTAL QUALITY.
041023 | 06/01/16 | DEPARTMENT OF THE ARMY.
91338B | 06/06/16 | BUREAU OF LAND MANAGMENT—IDAHO.
61798A | 06/06/16 | MONNIN, DAVID P.
101141 | 06/09/16 | WASHINGTON STATE UNIVERSITY, VANCOUVER.
829250 | 06/13/16 | HAWAII WILDLIFE FUND.
210255 | 06/13/16 | MONTANA FISH, WILDLIFE, AND PARKS.
003483 | 06/15/16 | U.S. GEOLOGICAL SURVEY, BIOLOGICAL RESOURCES DISCIPLINE.
041672 | 06/16/16 | U.S. ARMY CORPS OF ENGINEERS, PORTLAND DISTRICT.
92903B | 06/29/16 | SKAGIT FISHERIES ENHANCEMENT GROUP.
63568A | 06/30/16 | CLINCH, JASON O.
72084A | 06/30/16 | DESCHUTES VALLEY WATER DISTRICT.

Region 2 (Southwest Region: Arizona, New Mexico, Oklahoma, and Texas)

The following permits were applied for and issued in Region 2. For more information about any of the following permits, contact the Recovery Permit Coordinator by email at PermitsR2ES@fws.gov or by telephone at 505-248-6665.

Permit No. | Date issued | Applicant name
78582B | 01/04/16 | DOLMAN, RICHARD WILLIAM.
174552 | 01/05/16 | ANIMAS BIOLOGICAL STUDIES, LLC.
78170B | 01/08/16 | CLARDY, KENDRA BREANN.
58226B | 01/08/16 | HALL, JAMES A.
84338B | 01/08/16 | LEE, ERICA T.
34030A | 01/08/16 | MCBRIDE, DUSTIN LEE.
78168B | 01/08/16 | MCMATH, RACHEL BROOKE.
78959A | 01/08/16 | WEBER, SARAH ANNE.
64595A | 01/14/16 | GULF SOUTH RESEARCH CORPORATION.
00975A | 01/15/16 | OSAGE NATION, DEPARTMENT OF ENVIRONMENT AND NATURAL RESOURCES.
73970B | 01/22/16 | BUTLER, ALAN RYAN.
814829 | 01/29/16 | OKLAHOMA DEPARTMENT OF WILDLIFE CONSERVATION.
37047A | 01/29/16 | SEA WORLD PARKS AND ENTERTAINMENT.
148363 | 02/08/16 | MARTIN, KEITH WILLIAM.
85077A | 02/08/16 | ZARA ENVIRONMENTAL, INC.
800611 | 02/12/16 | SWCA ENVIRONMENTAL CONSULTANTS—SAN ANTONIO.
836329 | 02/18/16 | BLANTON & ASSOCIATES.
73327B | 02/19/16 | NORTHEASTERN STATE UNIVERSITY.
039544 | 02/22/16 | FORSTNER, MICHAEL R.J.
826091 | 02/25/16 | BUREAU OF LAND MANAGEMENT—PHOENIX.
839848 | 02/25/16 | USDA FOREST SERVICE—CARSON NATIONAL FOREST.
022582 | 03/01/16 | MUROV, MARILYN BETH.
039466 | 03/03/16 | USGS—IDAHO COOPERATIVE FISH & WILDLIFE RESEARCH UNIT.
012642 | 03/04/16 | BLUE EARTH ECOLOGICAL CONSULTANTS.
146537 | 03/06/16 | NEW MEXICO STATE LAND OFFICE.
143922 | 03/07/16 | BIO-SPATIAL SERVICES, INC.
80964B | 03/07/16 | RIECK, JEAN MARIE LOVERICH.
78414B | 03/07/16 | TAYLOR, ANTOINETTE C.
776123 | 03/07/16 | TEXAS A & M UNIVERSITY—GALVESTON.
78250B | 03/18/16 | HATCHETT, ERIN SIEGEL.
053839 | 03/18/16 | SME ENVIRONMENTAL CONSULTANTS.
89857B | 03/21/16 | ODYSEA AQUARIUM, LLC.
78390B | 04/01/16 | COSBY, KRISTY L.
89857B | 04/01/16 | ODYSEA AQUARIUM, LLC.
841359 | 04/01/16 | USDA FOREST SERVICE, GILA NATIONAL FOREST.
829761 | 04/11/16 | BUREAU OF LAND MANAGEMENT—LAS CRUCES.
118414 | 04/11/16 | CHEROKEE NATION.
84336B | 04/11/16 | KRAEMER, REED ALAN.
819451 | 04/11/16 | TRAVIS COUNTY TRANSPORTATION & NATURAL RESOURCES.
80165B | 04/11/16 | WETEKAMM, KALE FREDERICK.
82339B | 04/11/16 | WHITE, TRACY R.
046447 | 04/15/16 | U.S. GEOLOGICAL SURVEY, CERC, YANKTON FIELD RESEARCH STATION.
798920 | 05/02/16 | CITY OF AUSTIN.
776123 | 05/02/16 | TEXAS A & M UNIVERSITY—GALVESTON.
802211 | 05/02/16 | TEXAS STATE UNIVERSITY—SAN MARCOS.
198057 | 05/06/16 | BLACKBIRD ENVIRONMENTAL, LLC.
086559 | 05/06/16 | JONES, RICKY LEE.
799099 | 05/16/16 | EAGLE ENVIRONMENTAL, INC.
835139 | 05/16/16 | HAWKS ALOFT, INC.
23162B | 05/16/16 | HERMAN, ERIC L.
837751 | 05/16/16 | USDI, BUREAU OF RECLAMATION—PHOENIX.
083956 | 05/16/16 | WOLF, SANDY A.
89788B | 06/13/16 | ATTWOOD, ERIC T.
61046B | 06/13/16 | PEREZ , CHRISTINA MICHELLE.
028605 | 06/13/16 | SWCA ENVIRONMENTAL CONSULTANTS—FLAGSTAFF.
078189 | 06/22/16 | ADKINS CONSULTING, INC.
160521 | 06/24/16 | TETRA TECH, INC.
182699 | 06/27/16 | CARTRON, JEAN-LUC E.
87751B | 06/27/16 | COOLEY, CHRISTINE LOUISE.
53840A | 06/27/16 | GRIFFIN, DAVID J.
230274 | 06/27/16 | KELLER, DAVID C.
92366A | 06/27/16 | KIMLEY-HORN AND ASSOCIATES, INC.
66060A | 06/27/16 | SPENCER, JANINE A.
105165 | 06/27/16 | U.S.ARMY—WHITE SANDS MISSILE RANGE.
87020B | 06/29/16 | MOOSO, ANDREW MORGAN.

Region 3 (Midwest Region: Illinois, Indiana, Iowa, Michigan, Minnesota, Missouri, Ohio, and Wisconsin)

The following permits were applied for and issued in Region 3. For more information about any of the following permits, contact the Recovery Permit Coordinator by email at PermitsR3ES@fws.gov or by telephone at 612-713-5343.

Permit No. | Date issued | Applicant name
38087B | 01/04/16 | HICKEY-MILLER, JESSICA L.
212440 | 01/11/16 | BAT CONSERVATION AND MANAGEMENT, INC.
023666 | 01/11/16 | BRITZKE, ERIC R.
98032A | 01/11/16 | GARDNER, JAMES E.
21821B | 02/04/16 | CALDWELL, KATHERINE LEE.
35855B | 02/05/16 | D'ACUNTO, LAURA ELIZABETH.
98295A | 02/16/16 | SETTLE, DALLAS SCOTT.
64072B | 02/23/16 | AQUATIC SYSTEMS INC.
03494B | 02/23/16 | GAI CONSULTANTS, INC.
98296A | 02/29/16 | HOFFMAN, BRADEN A.
66724A | 03/01/16 | CLEVELAND METROPARKS.
15027A | 03/02/16 | STANTEC CONSULTING SERVICES, INC.
212427 | 03/03/16 | ECOLOGY & ENVIRONMENT, INC.
62297A | 03/03/16 | WHITBY, MICHAEL D.
697830 | 03/04/16 | U.S. FISH AND WILDLIFE SERVICE.
98063A | 03/04/16 | WOMACK, KATHRYN M.
64068B | 03/08/16 | USDA FOREST SERVICE.
71524B | 03/14/16 | BURKE, THERESA SYDNEY.
71044B | 03/21/16 | HASSLER, JOSHUA S.
66634A | 03/21/16 | US ARMY CORPS OF ENGINEERS.
206778 | 03/24/16 | U.S. FISH AND WILDLIFE SERVICE.
106220 | 03/25/16 | WALTERS, BRIANNE LORRAINE.
64236B | 03/31/16 | MAINE, JOSIAH J.
90090B | 04/05/16 | POWER ENGINEERS, INC.
06797A | 04/06/16 | MCCLANAHAN, ROD DANIEL.
71737A | 04/08/16 | KLOCEK, ROGER A.
64239B | 04/08/16 | LIGHT, NATHANAEL RYAN.
70868B | 04/08/16 | ORTMAN, BRIAN L.
81973B | 04/08/16 | USDA FOREST SERVICE.
71021B | 04/11/16 | INDIANA DEPARTMENT OF NATURAL RESOURCES.
64069B | 04/13/16 | US FOREST SERVICE.
90114B | 04/18/16 | AECOM.
77530A | 04/18/16 | KAPUSINSKI, DOUGLAS J.
40451B | 04/20/16 | SOUTH DAKOTA STATE UNIVERSITY.
64234B | 04/25/16 | BARNHART, MILES C.
86141B | 04/27/16 | RUSSELL, ROBIN E.
31310A | 04/29/16 | MINNESOTA POLLUTION CONTROL AGENCY.
06778A | 04/29/16 | SHAWNEE NATIONAL FOREST.
64079B | 05/02/16 | MINNESOTA ZOOLOGICAL GARDEN.
60257B | 05/05/16 | MISSOURI DEPARTMENT OF CONSERVATION.
06809A | 05/05/16 | USDA FOREST SERVICE.
30970B | 05/17/16 | MILLER, JEFFREY C.
82666A | 05/19/16 | BOYLES, JUSTIN G.
73587A | 05/31/16 | MISSOURI DEPARTMENT OF CONSERVATION.
135297 | 06/16/16 | SAINT LOUIS ZOO.
35517B | 06/20/16 | ARNOLD, BRYAN D.
27915B | 06/20/16 | WILDLIFE SPECIALISTS, LLC.
07358A | 06/22/16 | CIVIL AND ENVIRONMENTAL CONSULTANTS, INC.
48832A | 06/24/16 | ROE, KEVIN J.
89558A | 06/25/16 | ROMELING, SHANNON ELIZABETH.
71718A | 06/30/16 | STEFFEN, BRADLEY JAMES.

Region 4 (Southeast Region: Alabama, Arkansas, Florida, Georgia, Kentucky, Louisiana, Mississippi, North Carolina, South Carolina, and Tennessee, Commonwealth of Puerto Rico, and the U.S. Virgin Islands)

The following permits were applied for and issued in Region 4. For more information about any of the following permits, contact the Recovery Permit Coordinator by email at PermitsR4ES@fws.gov or by telephone at 404-679-7140.

Permit No. | Date issued | Applicant name
68616B | 01/11/16 | ATKINSON, CARLA LEE.
12399A | 01/15/16 | AUDUBON NATURE INSTITUTE.
38522A | 01/21/16 | UNIVERSITY OF KENTUCKY.
54891B | 02/01/16 | EASTERN KY UNIVERSITY.
007748 | 02/01/16 | NOLDE, JASON.
171577 | 02/08/16 | FORT CHAFFEE MANEUVER TRAINING CENTER—ENVIRONMENTAL BRANCH.
68773B | 02/10/16 | MUNZER, OLIVIA M.
834056 | 02/17/16 | KEYS, MICHAEL L.
148282 | 02/18/16 | WILHIDE, JACK (J.D.) D.
132772 | 02/29/16 | USDA FOREST SERVICE, NATIONAL FORESTS IN ALABAMA.
178643 | 03/08/16 | WEST, JEFFREY C.
48833A | 03/09/16 | CARVER, BRIAN D.
13910A | 03/17/16 | DERTING, TERRY L.
55286B | 03/17/16 | MATTINGLY, HAYDEN THOMAS.
25612A | 03/17/16 | SAMORAY, STEPHEN T.
212106 | 03/21/16 | CAMPBELLSVILLE UNIVERSITY.
59008 | 03/25/16 | CCR ENVIRONMENTAL, INC.
807672 | 04/08/16 | CARTER, J. H.
051552 | 04/08/16 | FREDERICK, PETER C.
045109 | 04/08/16 | KILGORE, KENNETH JACK.
069754 | 04/11/16 | DINKINS, GERALD R.
171516 | 04/14/16 | COPPERHEAD ENVIRONMENTAL CONSULTING, INC.
121073 | 04/20/16 | SKELTON, CHRISTOPHER E.
156392 | 04/20/16 | SKYBAX ECOLOGICAL SERVICES, LLC.
56028B | 04/25/16 | HOPKINS, TERRY JOE.
48582B | 04/27/16 | ROMANO, KIM A.
97394A | 05/09/16 | COUCH, ZACHARY L.
37661B | 05/09/16 | DEEP SOUTH ECO GROUP.
65002A | 05/09/16 | ONEY, ROBERT C.
83013B | 05/11/16 | O'CONNOR, KATHLEEN ELIZABETH.
83011B | 05/11/16 | WELDON, PRESCOTT.
48579B | 06/02/16 | ECOLOGICAL SOLUTIONS INC.
102292 | 06/02/16 | JACKSON, JEREMY LYNN.
65346A | 06/02/16 | ROBERTS, MATTHEW S.
90833B | 06/03/16 | GEORGIA POWER COMPANY.
56746B | 06/09/16 | JOHNSON, JOSEPH S.
66480B | 06/10/16 | GILBERT, THOMAS S.
62778B | 06/14/16 | OSBORNE, CHANSTON T.
121059 | 06/14/16 | ROUND MOUNTAIN BIOLOGICAL & ENVIRONMENTAL STUDIES, INC.
43704A | 06/14/16 | SAUGEY, DAVID ALAN.
40178B | 06/15/16 | WASHINGTON, ERIC C.
98424B | 06/16/16 | U.S. GEOLOGICAL SURVEY.
35313B | 06/16/16 | WILLCOX, EMMA VICTORIA.
53910B | 06/17/16 | PORTER, TERESA A.
61981B | 06/22/16 | THE PEREGRINE FUND.
86220A | 06/23/16 | FLORIDA MUSEUM OF NATURAL HISTORY.
56430B | 06/24/16 | HOOTMAN, JONATHAN ROBERT.

Region 5 (Northeast Region: Connecticut, Delaware, Maine, Maryland, Massachusetts, New Hampshire, New Jersey, New York, Pennsylvania, Rhode Island, Vermont, Virginia, and West Virginia)

The following permits were applied for and issued in Region 5. For more information about any of the following permits, contact the Recovery Permit Coordinator by email at PermitsR5ES@fws.gov or by telephone 703-358-2402.

Permit No. | Date issued | Applicant name
01771C | 02/08/16 | STURGES, LESLIE.
01783C | 03/04/16 | NEW HAMPSHIRE ARMY NATIONAL GUARD.
01789C | 03/18/16 | PORTER, MEGAN L.
01721C | 04/07/16 | US FISH AND WILDLIFE SERVICE.
01753C | 05/05/16 | BLACK BEAR HYDRO PARTNERS, LLC.
01353C | 05/17/16 | DEPARTMENT OF ENERGY AND ENVIRONMENT.
01355C | 06/02/16 | USFWS SILVIO O. CONTE NATIONAL FISH AND WILDLIFE REFUGE.

Region 6 (Mountain-Prairie Region: Colorado, Kansas, Montana, Nebraska, North Dakota, South Dakota, Utah, and Wyoming)

The following permits were applied for and issued in Region 6. For more information about any of the following permits, contact the Recovery Permit Coordinator by email at PermitsR6ES@fws.gov or by telephone 719-628-2670.

Permit No. | Date issued | Applicant name
65611B | 01/15/16 | SKADSEN, DENNIS RAY.
100193 | 02/01/16 | CENTRAL PLATTE NATURAL RESOURCES DISTRICT.
86215B | 02/15/16 | SWCA ENVIRONMENTAL CONSULTANTS.
58526B | 03/15/16 | BIRD CONSERVANCY OF THE ROCKIES.
049623 | 03/15/16 | DEPARTMENT OF THE ARMY.
056001 | 03/15/16 | EAST DAKOTA WATER DEVELOPMENT DISTRICT.
237961 | 03/15/16 | HAYDEN-WING ASSOCIATES, LLC.
047288 | 03/15/16 | NATIONAL PARK SERVICE, HEARTLAND NETWORK.
86044B | 03/15/16 | US FOREST SERVICE BLACK HILLS NATIONAL FOREST.
79842A | 03/21/16 | WHITE, JEREMY A.
91126B | 04/01/16 | THEODORE ROOSEVELT NATIONAL PARK.
64613B | 04/14/16 | PHILLIPS, ANDREW L.
36792A | 04/15/16 | BIO-LOGIC INC.
85057B | 04/19/16 | CUNNINGHAM, GEORGE RICHARD.
047283 | 04/19/16 | WASHINGTON STATE UNIVERSITY.
051841 | 04/23/16 | TORONTO ZOO.
71872A | 05/02/16 | WYOMING NATURAL DIVERSITY DATABASE.
67112A | 05/31/16 | WESTWATER ENGINEER INC.
85110B | 06/01/16 | BROWN, BRYAN T.
75449B | 06/01/16 | MEANEY, CARRON A.
66521B | 06/01/16 | WESTERN BIOLOGY, LLC.
13024B | 06/02/16 | BUREAU OF LAND MANAGEMENT.
91807B | 06/02/16 | DICKINSON STATE UNIVERSITY.
91328B | 06/02/16 | NORTH DAKOTA STATE UNIVERSITY.
93334B | 06/02/16 | UNITED TRIBES TECHNICAL COLLEGE.
85664B | 06/02/16 | WINGATE BIOLOGICAL SOLUTIONS, LLC.
94242B | 06/03/16 | BATWORKS, LLC.
79311B | 06/03/16 | ECOSYSTEM RESEARCH GROUP, LLC.
92132B | 06/03/16 | USDA FOREST SERVICE.
047381 | 06/20/16 | BUREAU OF INDIAN AFFAIRS, SOUTHERN UTE TRIBE.
186566 | 06/20/16 | WESTERN STATE COLORADO UNIVERSITY.
040834 | 06/21/16 | BOULDER COUNTY PARKS AND OPEN SPACE.
90023B | 06/21/16 | EA ENGINEERING, SCIENCE, AND TECHNOLOGY, INC., PBC.
97250B | 06/21/16 | NATIONAL PARK SERVICE CURECANTI NATIONAL RECREATION AREA.
93273B | 06/21/16 | SAGEBRUSH ADVISORS, LLC.

Region 7 (Alaska Region)

The following permits were applied for and issued in Region 7. For more information about any of the following permits, contact the Recovery Permit Coordinator by email at PermitsR7ES@fws.gov or by telephone at 907-786-3323.

Permit No. | Date issued | Applicant name
95012B | 05/11/16 | U.S. FISH AND WILDLIFE SERVICE.
012155 | 05/18/16 | ABR, INC.
042711 | 05/24/16 | YUKON DELTA NATIONAL WILDLIFE REFUGE.

Region 8 (Pacific Southwest Region: California, Nevada, and the Klamath Basin Portion of Oregon)

The following permits were applied for and issued in Region 8. For more information about any of the following permits, contact the Recovery Permit Coordinator by email at PermitsR8ES@fws.gov or by telephone at 760-431-9440.

Permit No. | Date issued | Applicant name
95006A | 01/21/16 | CHEN, STEVEN CHUNG-LI.
053372 | 01/21/16 | SAN FRANCISCO BAY NATIONAL WILDLIFE REFUGE COMPLEX.
58452B | 01/21/16 | WARD, DARREN M.
067347 | 01/28/16 | DICKSON, CRYSTA L.
789253 | 01/28/16 | FOSTER, BRIAN D.
036034 | 01/28/16 | TIERRA DATA INCORPORATED.
59587B | 02/03/16 | CALIFORNIA DEPARTMENT OF WATER RESOURCES.
022230 | 02/03/16 | KIDD, JEFF W.
61650B | 02/03/16 | NORMANDEAU ASSOCIATES, INCORPORATED.
58889A | 02/03/16 | PRESTERA, WENDY J.
786714 | 02/03/16 | ROBERTSON, ELYSSA K.
768251 | 02/22/16 | BIOSEARCH ASSOCIATES.
59557B | 02/22/16 | D'AMICO, LIDIA ANDREA.
829554 | 02/22/16 | KUS, BARBARA ELAINE.
78251B | 02/22/16 | PARMENTER, AMBER S.
097511 | 02/22/16 | WOOD, LESLIE L.
135948 | 02/24/16 | BRODIE, NATALIE J.
832717 | 02/24/16 | DOSSEY, ROD K.
88969B | 02/24/16 | MULLIGAN BIOLOGICAL CONSULTING.
179013 | 02/24/16 | WERNER, SCOTT M.
053020 | 02/26/16 | PIGNIOLO, ANDREW ROBERT.
61175B | 02/26/16 | WILLRICK, LINDSAY RAE.
048739 | 03/03/16 | CORDOVA, DANIEL A.
051236 | 03/03/16 | EIDSON, ERIKA.
063230 | 03/03/16 | ROCKS, JIM J.
082908 | 03/03/16 | ROCKS, MELANIE S.
29658A | 03/04/16 | DUNN, CINDY MARCELLA.
60218B | 03/04/16 | HICKMAN, JAMES C.
134338 | 03/06/16 | OGG, BRENNA A.
051242 | 03/07/16 | ALFARO, MONICA.
29522A | 03/09/16 | GILLILAND, KENNETH LEE.
020548 | 03/15/16 | U.S. GEOLOGICAL SURVEY, WERC, SAN FRANCISCO BAY ESTUARY F.S.
839211 | 03/16/16 | MCKERNAN, MARNIE S.
64138A | 03/16/16 | MERSY TU, MELISSA.
62868B | 03/16/16 | THE KLAMATH TRIBES.
834492 | 03/16/16 | THOMAS, JULIE.
074017 | 03/17/16 | CHARBONNEAU, JACKIE C.
045153 | 03/17/16 | JANEKE, DUSTIN SCOTT.
63371B | 03/17/16 | NEIDINGER, RHEANNA MARGO.
72045A | 03/17/16 | ZYCH, ALISA CATHERINE.
28317A | 03/18/16 | SIMI, DAVID JOSEPH.
73361A | 03/21/16 | COLWELL, MARK A.
36500A | 03/24/16 | WESTERN FOUNDATION OF VERTEBRATE ZOOLOGY.
833230 | 03/25/16 | ARAMAYO, ROBERT A.
71222B | 03/25/16 | CLEVELAND, CINDY M.
72637B | 03/25/16 | DAMAN, CAROLYN E.
816187 | 03/25/16 | DAVID COOK.
63359B | 03/25/16 | RADTKEY, JENNIFER R.
69070B | 03/26/16 | BOROKINI, TEMITOPE ISRAEL.
097516 | 03/29/16 | RYAN, THOMAS P.
60151B | 03/30/16 | FRANKLIN, LISA A.
161483 | 03/31/16 | DAVENPORT, LINETTE A.
61177B | 04/01/16 | RICKETTS, MATTHEW S.
198910 | 04/01/16 | UNITED STATES GEOLOGICAL SURVEY.
37418A | 04/11/16 | BEAN, WILLIAM T.
233367 | 04/11/16 | GORMAN, LAURA ELIZABETH.
744878 | 04/11/16 | INSTITUTE FOR WILDLIFE STUDIES.
40090B | 04/12/16 | KNAPP, ROLAND A.
21744B | 04/12/16 | SAN FRANCISCO PUBLIC UTILITIES COMMISION, NRLMD.
100008 | 04/15/16 | COOPER, DANIEL STEVE.
122632 | 04/15/16 | FERREE, KIMBERLY.
006112 | 04/15/16 | FLOHR, GRETCHEN E.
780566 | 04/15/16 | RAMIREZ, RUBEN S.
35207A | 04/15/16 | ZYLSTRA, JORDAN J.
057714 | 04/18/16 | REIS, DAWN K.
40087B | 04/18/16 | USDA FOREST SERVICE.
835549 | 04/19/16 | BLACK, CHARLES H.
749872 | 04/21/16 | GERMANO, DAVID J.
815214 | 04/22/16 | OCEANO DUNES STATE VEHICULAR RECREATION AREA.
181713 | 04/25/16 | HARTLEY, CYNTHIA ANN.
119861 | 04/25/16 | QUAD KNOPF, INC.
136973 | 04/25/16 | TAMASI, JUDI A.
007907 | 05/04/16 | U.S. GEOLOGICAL SURVEY.
044846 | 05/04/16 | U.S. GEOLOGICAL SURVEY AND NATIONAL PARK SERVICE.
62464B | 05/05/16 | GRIFFIN, LINDSAY D.
003314 | 05/05/16 | KLAMATH FALLS FISH AND WILDLIFE OFFICE.
78075B | 05/10/16 | BARLOW, STEPHEN H.
78073B | 05/10/16 | LEVOY, ADRIENNE E.
58760A | 05/11/16 | YAKICH, JASON D.
27460A | 05/11/16 | ZITT, BRIAN A.
135974 | 05/12/16 | MARANGIO, MICHAEL S.
70880B | 05/19/16 | HOBBS, MICHAEL T.
034093 | 05/20/16 | VENTURA FISH AND WILDLIFE OFFICE.
69046B | 05/23/16 | ASMUS, JAMES L.
065741 | 05/23/16 | LOVIO, JOHN C.
79454A | 05/23/16 | SANTA BARBARA ZOOLOGICAL FOUNDATION.
063429 | 05/24/16 | CALIFORNIA DEPARTMENT OF WATER RESOURCES.
778195 | 05/24/16 | HELIX ENVIRONMENTAL PLANNING, INC.
026659 | 05/24/16 | VENTANA WILDLIFE SOCIETY.
137006 | 05/27/16 | BENSON, THEA B.
799557 | 05/27/16 | HAMILTON, ROBERT A.
036065 | 05/27/16 | KLUTZ, KOREY M.
172638 | 05/27/16 | LIVERGOOD, KEVIN S.
64580A | 05/27/16 | RICE, NICHOLAS A.
67397A | 05/31/16 | RICKS, TIMOTHY W.
43610A | 06/01/16 | ORSOLINI, JESSICA A.
71221B | 06/02/16 | BOYDSTUN, KIMBERLY A.
824123 | 06/08/16 | SWCA ENVIRONMENTAL CONSULTANTS.
170389 | 06/09/16 | COOPER, TRAVIS B.
821401 | 06/13/16 | DANIELS, BRIAN E.
827493 | 06/13/16 | LEATHERMAN, BRIAN M.
820658 | 06/15/16 | AECOM.
86461B | 06/16/16 | CIRRUS ECOLOGICAL SOLUTIONS, LLC.
837760 | 06/16/16 | OSBORNE, KENDALL H.
844645 | 06/21/16 | KANN “AKA ROGERS”, RICHARD U.
83957B | 06/23/16 | BRICK, MONICA J.
71214B | 06/23/16 | COLLINS, TARA L.
052072 | 06/23/16 | HOOPA VALLEY TRIBAL COUNCIL.

Availability of Documents

The Federal Register documents publishing the receipt of applications for these permits may be viewed here: https://www.fws.gov/policy/frsystem/1999rules.cfm?date=16&doc_type=notices. Documents and other information submitted with these applications are available for review subject to the requirements of the Privacy Act and Freedom of Information Act, by any party who submits a written request for a copy of such documents. For detailed information regarding a particular permit, please contact the Region that issued the permit.

Authority

We provide this notice under the authority of section 10 of the Act (16 U.S.C. 1531 et seq.).

Don Morgan,
Chief, Branch of Recovery and State Grants.

[FR Doc. 2016-21169 Filed 9-1-16; 8:45 am]

BILLING CODE 4333-15-P